INTERNATIONAL TRADE COMMISSION

[Investigation No. 337-TA-1353]

Certain Pick-Up Truck Folding Bed Cover Systems And Components Thereof (III) Institution of Investigation

AGENCY: U.S. International Trade Commission.

ACTION: Notice.

SUMMARY: Notice is hereby given that a complaint was filed with the U.S. International Trade Commission on January 19, 2023, under section 337 of the Tariff Act of 1930, as amended, on behalf of Extang Corporation of Ann Arbor, Michigan; Laurmark Enterprises, Inc. of Ann Arbor, Michigan; and UnderCover, Inc. of Rogersville, Missouri. Supplements were filed on January 23, 2023, and February 9, 2023. The complaint, as supplemented, alleges violations of section 337 based upon the importation into the United States, the sale for importation, and the sale within the United States after importation of certain pick-up truck folding bed cover systems and components thereof by reason of the infringement of certain claims of U.S. Patent No. 7,188,888 (“the '888 patent”); U.S. Patent No. 7,484,788 (“the '788 patent”); U.S. Patent No. 8,061,758 (“the '758 patent”); U.S. Patent No. 7,537,264 (“the '264 patent”); U.S. Patent No. 8,182,021 (“the '021 patent”); U.S. Patent No. 8,690,224 (“the '224 patent”); and U.S. Patent No. 9,815,358 (“the '358 patent”). The complaint further alleges that an industry in the United States exists as required by the applicable Federal Statute.

The complainant requests that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2022).

Scope of Investigation: Having considered the complaint, the U.S. International Trade Commission, on February 17, 2023, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claim 11 of the '888 patent; claims 1-3 of the '788 patent; claims 2-4 of the '758 patent; claims 1, 5-11, 13-15, and 25 of the '264 patent; claims 1-35 of the '021 patent; claims 1-10 of the '224 patent; and claims 1-3 of the '358 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “multi-panel folding cover systems that rest either on sides of pick-up truck beds or on rails placed on the insides of pick-up trucks beds, including components of such systems such as clamps and rails used to attached folding bed covers to pick-up truck beds”;

(3) For the purpose of the investigation so instituted, the following are hereby named as parties upon which this notice of investigation shall be served:

(a) The complainants are:

Extang Corporation, 5400 S. State Road, Ann Arbor, Michigan 48108

Laurmark Enterprises, Inc., d/b/a BAK Industries, 5400 Data Court, Ann Arbor, Michigan 48108

UnderCover, Inc., 59 Absolute Drive, Rogersville, Missouri 65742

(b) The respondents are the following entities alleged to be in violation of section 337, and are the parties upon which the complaint is to be served:

4 Wheel Parts, 400 W. Artesia Blvd., Compton, CA 90220

American Trucks, 17700 College Blvd., Lenexa, KS 66219

Auto Dynasty, a/k/a Shun Fung Int'l Inc., 803 S. Sentous Ave., Suite C, City of Industry, CA 91748

AUTOSTARLAND Technology (US), Inc., 1660 Iowa Ave., Unit 200, Riverside, CA 92507

DNA Motoring, 801 Sentous Ave., City of Industry, CA 91748

Fanciest Pickup Accessories, 1660 Iowa Ave., Unit 200, Riverside, CA 92507

Future Trucks, a/k/a Future Trading Company, LLC, 4510 W 34th Street, Houston, TX 77092

Ikon Motorsports, Inc., 15305 Stafford St., City of Industry, CA 91744

Jiaxing Kscar Auto Accessories Co., Ltd., a/k/a KSC Auto, Floor 3, Bldg 7, 285 Duguang Hwy., Dushangang Town, Pinghu City, Zhejiang, China, 314207

Kiko Kikito, Room 312 Building 2, Wuyue Plaza, Anyang Street, Ruian City, Wenzhou, Zhejiang, 325200, China

Lyon Cover Auto, a/k/a Truck Tonneau Covers, F09-14 Wan Yan Zhong Chuang Cheng, 9 Yangyu Road, Pingyang County, Binhai New, District, Wenzhou City, Zhejiang Province, 325400, China

Mamoru Cover, a/k/a Ningbo Surpass Auto Parts Co., Ltd., NO.65 Chongshou Ave., Chongshou Industry Zone, Cixi, Ningbo City, Zhejiang, 315334 China

MOSTPLUS Auto, Room 2105 WZ2389 Rend Centre, 29-31 Cheung Lee Street, Chai Wan, Hong Kong, 32500, China

Newpowa America, Inc., 3633 Inland Empire Blvd., Suite 600, Ontario, CA 91764

New Home Materials, Inc., 1815 Rustin Avenue, Suite H, Riverside, CA 92507

OEDRO, 18220 80th Place South, Kent, WA 98032

Pickup Zone, a/k/a Dai Qun Feng, 1660 Iowa Ave., Unit 200, Riverside, CA 92507

RDJ Trucks, LLC, 2005 Mountain Creek Church Road, Talmo, GA 30575

Smittybilt, Inc., 400 W. Artesia Blvd., Compton, CA 90220

Trek Power, Inc., 1683 Sierra Madre Circle, Placentia, CA 92870

Wenzhou Tianmao Automobile Parts Co., Ltd., No. 14 Wanyang Zhongchuang, No. 9 Yangyu Road, Binhai New Area, Wenzhou, Zhejiang, China, 325410

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainants of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: February 21, 2023.
Lisa Barton,
Secretary to the Commission.

[FR Doc. 2023-03904 Filed 2-24-23; 8:45 am]

BILLING CODE 7020-02-P